INTERNATIONAL TRADE COMMISSION

[Investigation Nos. 701-TA-488 and 731-TA-1199-1200 (Preliminary)]

Large Residential Washers From Korea and Mexico

Determinations

On the basis of the record ¹ developed in the subject investigations, the United States International Trade Commission (Commission) determines,2 3 pursuant to sections 703(a) and 733(a) of the Tariff Act of 1930 (19 U.S.C. 1671b(a) and 1673b(a)) (the Act), that there is a reasonable indication that an industry in the United States is materially injured by reason of imports from Korea of large residential washers that are alleged to be sold in the United States at less than fair value (LTFV) and subsidized by the Government of Korea. The Commission further determines, pursuant to section 733(a) of the Act (19 U.S.C. 1673b(a)), that there is a reasonable indication that an industry is materially injured by reason of imports from Mexico of large residential washers that are alleged to be sold in the United States at LTFV. The products subject to these investigations are provided for in subheading 8450.20.00 of the Harmonized Tariff Schedule of the United States, and imported under statistical reporting number 8450.20.0090. Products subject to these investigations may also be imported under HTS subheadings 8450.11.00, 8450.90.20 or 8450.90.60.

¹ The record is defined in sec. 207.2(f) of the Commission's Rules of Practice and Procedure (19 CFR 207.2(f)).

² Chairman Deanna Tanner Okun not participating.

³ Commissioner Daniel R. Pearson dissenting.

Pursuant to section 207.18 of the Commission's rules, the Commission also gives notice of the commencement of the final phase of its investigations. The Commission will issue a final phase notice of scheduling, which will be published in the Federal Register as provided in section 207.21 of the Commission's rules, upon notice from the Department of Commerce (Commerce) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On December 30, 2011, a petition was filed with the Commission and Commerce by Whirlpool Corporation, Benton Harbor, MI, alleging that an industry in the United States is materially injured or threatened with material injury by reason of LTFV and subsidized imports of large residential washers from Korea and LTFV imports of large residential washers from Mexico. Accordingly, effective December 30, 2011, the Commission instituted countervailing duty investigation No. 701-TA-488 and antidumping duty investigation Nos. 731-TA-1199-1200 (Preliminary).

Notice of the institution of the Commission's investigations and of a public conference to be held in connection therewith was given by posting copies of the notice in the Office of the Secretary, U.S. International Trade Commission, Washington, DC, and by publishing the notice in the Federal Register of January 9, 2012 (77 FR 1082). The conference was held in Washington, DC, on January, 20, 2012, and all persons who requested the opportunity were permitted to appear in person or by counsel.

The Commission transmitted its determination in this investigation to the Secretary of Commerce on February 13, 2012. The views of the Commission are contained in USITC Publication 4306 (February 2012), entitled Large Residential Washers from Korea and Mexico: Investigation Nos. 701-TA-488 and 731-TA-1199-1200 (Preliminary).

Issued: February 13, 2012.
By order of the Commission.
James R. Holbein,
Secretary to the Commission.

[FR Doc. 2012-3732 Filed 2-16-12; 8:45 am]

BILLING CODE 7020-02-P